NUCLEAR REGULATORY COMMISSION

[NRC-2010-0149]

Establishment of the U.S. Department of Energy as the Long-Term Custodian of the Maybell West Uranium Mill Tailings Site in Moffatt County, CO. and Notice of Termination of the Umetco Minerals Corporation Colorado Radioactive Materials License Number 660-01 for the Maybell West Site

AGENCY: Nuclear Regulatory Commission.

ACTION: Notice of establishment of the U.S. Department of Energy as the long-term custodian of the Maybell West uranium mill tailings site in Moffatt County, Colorado, under the general license provisions of 10 CFR 40.28, and termination of the Umetco Minerals Corporation Colorado Radioactive Materials License Number 660-01 for the Maybell West site.

FOR FURTHER INFORMATION CONTACT: Richard Chang, Project Manager, Special Projects Branch, Decommissioning and Uranium Recovery Licensing Directorate, Division of Waste Management and Environmental Protection, Office of Federal and State Materials and Environmental Management Programs, U.S. Nuclear Regulatory Commission, Washington DC, 20555. Telephone: (301) 415-7188; fax number: (301) 415-5369; e-mail: richard.chang@nrc.gov.

SUPPLEMENTARY INFORMATION:

I. Notice of Approval

On June 14, 2007, U.S. Nuclear Regulatory Commission (NRC) staff concurred with the State of Colorado's determination that all applicable standards and requirements for the protection of public health, safety and the environment had been met for the Umetco Minerals Corporation (Umetco) Maybell West uranium mill tailings disposal site. On February 5, 2010, Umetco transferred ownership of its 20-acre parcel of the 180-acre Maybell West uranium mill tailings disposal site to the U.S. Department of Energy (DOE) for long-term custody, as required by 10 CFR Part 40, Appendix A, Criterion 11, prior to termination of Umetco's Radioactive Materials License by the State of Colorado. The 160-acre balance of the disposal site is on public land, which was transferred by the Bureau of Land Management to the DOE in April 2008. By letter dated February 16, 2010, the DOE submitted the final Long-Term Surveillance Plan (LTSP) for the Maybell West disposal site for review and acceptance by the NRC. The NRC staff has completed its review of the LTSP and determined that the LTSP satisfies the long-term surveillance requirements in 10 CFR Part 40, Appendix A, Criterion 12, and § 40.28, for the Maybell West tailings disposal site.

Accordingly, notice is hereby given that the NRC has accepted the LTSP for the Maybell West site. As documented in NRC's letter dated March 11, 2010, acceptance of this LTSP establishes the DOE as the long-term custodian and caretaker of the Maybell West site under the general license specified in § 40.28. In a concurrent action, the State of Colorado terminated Umetco's Radioactive Materials License Number 660-01 for the Maybell West site. These actions complete all requirements for closure of the Maybell West site under the Uranium Mill Tailings Radiation Control Act of 1978, as amended. These actions do not require an environmental assessment as they are administrative in nature and categorically excluded under 10 CFR 51.22(c) (11). Accepting this LTSP and establishing this site in the custody and long-term care of the DOE involved no significant: (i) Change in the types or increase in the amounts of any effluents that may be released offsite; (ii) increase in individual or cumulative occupational radiation exposure; (iii) construction impact; and (iv) increase in the potential for, or consequences from radiological accidents.

II. Further Information

In accordance with 10 CFR 2.390 of the NRC's “Rules of Practice,” copies

of the Maybell West LTSP submitted by DOE in a letter dated February 16, 2010, and the letter dated March 11, 2010, from the State of Colorado to Umetco terminating their Radioactive Materials License, are available electronically at the NRC's Electronic Reading Room at http://www.nrc.gov/reading-rm/adams.html. From this site, you can access the NRC's Agencywide Documents Access and Management System (ADAMS), which provides text and image files of NRC's public documents. The ADAMS accession numbers for the documents related to this notice are listed below. If you do not have access to ADAMS, or if there are problems in accessing the documents located in ADAMS, contact the NRC Public Document Room (PDR) Reference staff at 1-800-397-4209, 301-415-4737, or by e-mail to pdr.resource@nrc.gov.

Documents Related to this Notice:

1. Letter dated June 14, 2007, from J. Schlueter, NRC, to J. Vranka, Colorado Department of Public Health and Environment, regarding NRC concurrence of meeting all applicable standards for the Umetco Minerals Corporation Maybell West Uranium Mill Tailings Disposal Site. ML071490193.

2. Letter dated February 16, 2010, from T. Pauling, DOE, to W. VonTill, NRC, submitting the final Long-Term Surveillance Plan for the Maybell West Disposal Site, Moffatt County, Colorado. ML100550721.

3. Letter dated March 11, 2010, from K. McConnell, NRC, to R. Plieness, DOE, regarding acceptance of the Long-Term Surveillance Plan for the Umetco Minerals Corporation Maybell West Uranium Mill Tailings Disposal Site. ML100570213.

4. Letter dated March 11, 2010, from J. Opila, Colorado Department of Public Health and Environment, to T. Gieck, Umetco, regarding termination of Umetco's Radiation Materials License. ML100700643.

These documents may also be viewed electronically on the public computers located at the NRC's PDR, O1 F21, One White Flint North, 11555 Rockville Pike, Rockville, MD 20852. The PDR reproduction contractor will copy documents for a fee.

Dated at Rockville, Maryland, this 5th day of April 2010.
For The Nuclear Regulatory Commission.
Keith I. McConnell,
Deputy Director, Decommissioning and Uranium Recovery Licensing Directorate, Division of Waste Management and Environmental Protection, Office of Federal and State Materials and Environmental Management Programs.

[FR Doc. 2010-8236 Filed 4-9-10; 8:45 am]

BILLING CODE 7590-01-P